DEPARTMENT OF JUSTICE

National Institute of Corrections

Advisory Board Meeting

Time and Date: 8:30 a.m. to 5 p.m. on Monday, June 14, 2004; 8:30 a.m. to 12 noon on Tuesday, June 15, 2004.

Place: The Hotel Washington, 515 15th Street, NW., Washington, DC 20004.

Status: Open.

Matters to be Considered: Strategic planning Update; and Briefing: Division Reports; Prison Rape Elimination Act; Institutional Culture Initiative and Quarterly Report by Office of Justice Programs.

Contact Person for More Information: Larry Solomon, Deputy Director, 202-307-3106, ext. 44254.

Morris L. Thigpen,
Director.

[FR Doc. 04-9780 Filed 4-29-04; 8:45 am]

BILLING CODE 4410-36-M